DEPARTMENT OF LABOR

Employment and Training Administration

[TA-W-57,158]

Creo Americas, Inc., U.S. Headquarters, a Subsidiary of Creo, Inc.; Billerica, MA; Located in New York, NY; Notice of Termination of Investigation

Pursuant to section 221 of the Trade Act of 1974, as amended, an investigation was initiated on May 12, 2005 in response to a worker petition filed by a State agency representative on behalf of workers at Creo Americas, Inc., U.S. Headquarters, a subsidiary of Creo, Inc., New York, New York.

The petitioning group of workers is covered by an active certification, (TA-W-55,607A) which expires on April 5, 2007. Consequently, further investigation in this case would serve no purpose, and the investigation has been terminated.

Signed at Washington, DC this 1st day of June 2005.
Elliott S. Kushner,
Certifying Officer, Division of Trade Adjustment Assistance.

[FR Doc. E5-3173 Filed 6-17-05; 8:45 am]

BILLING CODE 4510-30-P